SMALL BUSINESS ADMINISTRATION

[Disaster Declaration #20451 and #20452; NEW MEXICO Disaster Number NM-20006]

Presidential Declaration Amendment of a Major Disaster for Public Assistance Only for the State of New Mexico

AGENCY: U.S. Small Business Administration.

ACTION: Amendment 1.

SUMMARY: This is an amendment of the Presidential declaration of a major disaster for Public Assistance Only for the State of New Mexico (FEMA-4795-DR), dated July 11, 2024.

DATES: Issued on August 26, 2024.

Physical Loan Application Deadline Date: September 9, 2024.

Economic Injury (EIDL) Loan Application Deadline Date: April 11, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for Private Non-Profit organizations in the State of New Mexico, dated June 11, 2024 is hereby amended to update the incident period for this disaster as beginning June 17, 2024 and continuing through August 20, 2024.

Incident: South Fork Fire, Salt Fire, and Flooding.

Incident Period: June 17, 2024 through August 20, 2024.

All other information in the original declaration remains unchanged.

(Catalog of Federal Domestic Assistance Number 59008)

Francisco Sánchez, Jr.,
Associate Administrator, Office of Disaster Recovery & Resilience.

[FR Doc. 2024-21667 Filed 9-20-24; 8:45 am]

BILLING CODE 8026-09-P